DEPARTMENT OF HOMELAND SECURITY

Coast Guard

33 CFR Part 117

[CGD13-03-034]

Drawbridge Operation Regulations; Duwamish Waterway, Seattle, WA

AGENCY: Coast Guard, DHS.

ACTION: Notice of temporary deviation from regulations.

SUMMARY: The Commander, Thirteenth Coast Guard District, has issued a temporary deviation from the regulation governing the operation of the First Avenue South Drawbridges across the Duwamish Waterway, mile 2.5, at Seattle, Washington. This deviation allows the bridge to temporarily operate only one leaf of the bascule unless notice is provided for double-leaf openings. The deviation is necessary to facilitate painting of the structure with its mandatory contaminant containment system in place.

DATES: This deviation is effective from 6 a.m. September 15 through 6 p.m. November 11, 2003.

ADDRESSES: Materials referred to in this document are available for inspection or copying at Commander (oan), Thirteenth Coast Guard District, 915 Second Avenue, Seattle, Washington 98174-1067 between 7:45 a.m. and 4:15 p.m., Monday through Friday, except Federal holidays. The telephone number is (206) 220-7270. The Bridge Section of the Aids to Navigation and Waterways Management Branch maintains the public docket for this temporary deviation.

FOR FURTHER INFORMATION CONTACT: Austin Pratt, Chief, Bridge Section, Aids to Navigation and Waterways Management Branch, (206) 220-7282.

SUPPLEMENTARY INFORMATION: Washington State Department of Transportation (WSDOT) requested this deviation from normal operations of the dual First Avenue South bascule bridges in order to facilitate painting. The containment system for contaminants and other equipment must be modified or removed in order to operate the movable span. WSDOT has proposed to work on one leaf of the bascules at a time so that one side of the bridges may remain operable according to the normal operating regulations of the bridge. In this way, vessels that can safely pass one-leaf openings may continue to pass the bridge during the project. Other vessels need to provide five hours notice for opening both sides of the bascule spans from 6 a.m. on September 15 through 6 p.m. on November 11, 2003. The five hours minimum notice will enable the contractor to remove equipment, adjust rigging, and evacuate workers from the leaf. Currently, the draws need not open for the passage of vessels from 6 a.m. to 9 a.m. and from 3 p.m. to 6 p.m. Monday through Friday, except all Federal holidays but Columbus Day. Currently, the draws shall open at any time for vessels of 5000 gross tons and over, a vessel towing a vessel of 5000 gross tons and over, or a vessel proceeding to pick up for towing a vessel of 5000 gross tons and over. At other times the draws open on signal for the passage of vessels. Vessels on the related reach of the waterway should be able to provide at least five hours notice for double-leaf openings without unreasonable inconvenience. Traffic on the waterway includes container barges with regularly scheduled movements as well as sailboats, motor yachts, and tugboats. Large vessels of 5000 gross tons have not passed through the dual bridges in recent years. This deviation does not exempt these vessels from the five hours notice. The bridges when closed provide 32 feet of vertical clearance above mean high water for the central 100 feet of the drawspans.

In accordance with 33 CFR 117.35(c), this work will be performed with all due speed in order to return the bridge to normal operation as soon as possible. This deviation from the operating regulations is authorized under 33 CFR 117.35.

Dated: September 15, 2003.
Jeffrey M. Garrett,
Rear Admiral, U.S. Coast Guard, Commander, Thirteenth Coast Guard District.

[FR Doc. 03-24691 Filed 9-29-03; 8:45 am]

BILLING CODE 4910-15-P